DEPARTMENT OF HEALTH AND HUMAN SERVICES

Stakeholder Listening Session in Preparation for the 71st World Health Assembly; Meeting

Subject: Office of Global Affairs: Stakeholder Listening Session in preparation for the 71st World Health Assembly

Time and date: Friday, May 11th, 2018, 3:00 p.m.-4:30 p.m. EST

Place:Hubert H. Humphrey Building, Auditorium, 200 Independence Ave, SW, Washington, District of Columbia 20201.

Status: Open, but requiring RSVP to OGA.RSVP@hhs.gov by Monday, May 7, 2018.

Purpose: The U.S. Department of Health and Human Services (HHS)—charged with leading the U.S. delegation to the 71st World Health Assembly—will hold an informal Stakeholder Listening Session on Friday, May 11 from 3:00 p.m. to 4:30 p.m., in the Hubert H. Humphrey Building Auditorium, 200 Independence Ave. SW, Washington, DC 20201.

The Stakeholder Listening Session will help the HHS Office of Global Affairs prepare the U.S. delegation for the World Health Assembly by taking full advantage of the knowledge, ideas, feedback, and suggestions from all individuals interested in and affected by agenda items to be discussed at the 71st World Health Assembly. Participants will be limited to 3 minute statements per agenda item. Your input will contribute to informing U.S. positions as we negotiate with our international colleagues at the World Health Assembly on these important health topics.

The listening session will be organized by agenda item, and participation is welcome from all individuals, including individuals familiar with the following topics and groups:

• Public health and advocacy activities;

• State, local, and Tribal issues;

• Private industry;

• Minority health organizations; and

• Academic and scientific organizations.

All agenda items to be discussed at the 71st World Health Assembly can be found at this website: http://apps.who.int/gb/ebwha/pdf_files/WHA71/A71_1-en.pdf

RSVP: Due to security restrictions for entry into the HHS Hubert H. Humphrey Building, RSVPs are required for this event. Please send your full name and organization to OGA.RSVP@hhs.gov . Please RSVP no later than Monday, May 7, 2018.

If you are not a U.S. citizen and do not have a U.S. government issued form of identification, please note this in the subject line of your RSVP, and our office will contact you to gain additional biographical information required for your clearance. Photo identification for all attendees is required for building access without exception.

Written comments are welcome and encouraged, even if you are planning on attending in person. Please send your written comments to OGA.RSVP@hhs.gov.

We look forward to hearing your comments related to the 71st World Health Assembly agenda items.

Dated: April 25, 2018.
G. Garrett Grigsby,
Director for Global Affairs.

[FR Doc. 2018-09348 Filed 5-2-18; 8:45 am]

BILLING CODE 4150-38-P